DEPARTMENT OF THE INTERIOR

National Park Service

National Register of Historic Places; Notification of Pending Nominations

Nominations for the following properties being considered for listing in the National Register were received by the National Park Service before August 21, 2004. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 1, 2004.

Carol D. Shull,
Keeper of the National Register of Historic Places.

ARIZONA

Cochise County

Evergreen Cemetery, Old Douglas Rd., Bisbee, 04001071

Gila County

Ox Bow Inn, 607 W. Main St., Payson, 04001073

Pima County

Deep Wel Ranch, 13001 E. Redington Rd., Tucson, 04001072

ARKANSAS

Poinsett County

Hubbard Rice Dryer, (Cotton and Rice Farm History and Architecture in the Arkansas Delta MPS), 15015 Senteney Rd., Weiner, 04001070

Woodruff County

Fitzhugh Snapp Company, (Cotton and Rice Farm History and Architecture in the Arkansas Delta MPS), Jct. of Cty Rd. 140 and Cty Rd. 165, Fitzhugh, 04001069

CALIFORNIA

Alpine County

Alpine County Courthouse, 14777 CA 89, Markleeville, 04001074

Los Angeles County

Building at 816 South Grand Avenue, 816 S. Grand Ave., Los Angeles, 04001075

Southern Pacific Railroad Depot, Whittier, 7333 Greenleaf Ave., Whittier, 04001105

CONNECTICUT

Hartford County

Bridge No. 455, CT 159 at Stony Brook, Suffield, 04001094

Litchfield County

Bridge No. 560, CT 7 and Ct 4 over Housatonic River, Cornwall, 04001090

Reynolds Bridge, Waterbury Rd. at Naugatuck R, Thomaston, 04001095

Middlesex County

Arrawanna Bridge, Berlin St. at Coginchaug R., Middletown, 04001092

Bridge No. 1132, CT 80 at Hammonsasset River, Killingworth, 04001091

New Haven County

Washington Bridge, US 1 at Housatonic R, Milford, 04001093

DELAWARE

New Castle County

Holladay—Harrington House, 3705 Kennett Pike, Greenville, 04001077

Sussex County

Fort Miles Historic District, At the confluence of the Atlantic Ocean and Delaware Bay, Lewes, 04001076

INDIANA

Floyd County

Simpson Memorial United Methodist Church, 9449 Harrison St., Greenville, 04001098

Fulton County

Hillcrest Country Club, 6098 Fall Creek Rd., Indianapolis, 04001099

Lake County

Bailey, Louis J., Branch Library—Gary International Institute, 1501 W. Madison St., Gary, 04001102

Marion County

Central Court Historic District, 3529-3575 Central Ave., 515-551 E. 36th St. and Central Ct., Indianapolis, 04001101

Monroe County

Millen House, 112 N. Bryan Ave., Bloomington, 04001104

Morgan County

Hall School, 5955 W. Hurt Rd., Monrovia, 04001100

Newton County

Goodland—Grant Township Public Library, 111 S. Newton St., Goodland, 04001103

IOWA

Johnson County

Brown Street Historic District (Boundary Increase) (Iowa City, Iowa MPS AD), 500-800 blks of E. Ronalds St., Iowa City, 04001096

Jefferson Street Historic District, (Iowa City, Iowa MPS AD), Portions of 100-400 blks of E. Jefferson St., Iowa City, 04001097

LOUISIANA

Bossier Parish

Bossier High School, 777 Bearcat Dr., Bossier City, 04001078

Caddo Parish

Wiener, Samuel, House, 615 Longleaf Rd., Shreveport, 04001079

Lincoln Parish

Hedgepeth Mounds, Address Restricted, Vienna, 04001080

Webster Parish

Yellow Pine School, 432 Yellow Pine Rd., Sibley, 04001081

MASSACHUSETTS

Middlesex County

Robin Hill Cemetery, Donald Lynch Blvd., Marlborough, 04001083

Nantucket County

Maplewood Cemetery, Pleasant St., Marlborough, 04001082

MONTANA

Flathead County

First Presbyterian Church of Whitefish, 301 Central Ave., Whitefish, 04001085

Missoula County

Catholic block Historic District, 400, 420 and 430 W. Pine St., 435 W. Spruce St., Missoula, 04001084

NEBRASKA

Cheyenne County

Sidney Historic Business District (Boundary Increase), Roughly bounded by Hickory and King Sts. and 9th and 12 Aves., Sidney, 04001086

SOUTH CAROLINA

Lee County

Bishopville High School, 600 N. Main St., Bishopville, 04001087

Lynchburg Presbyterian Church, SC 341, South Lynchburg, 04001088

WYOMING

Teton County

Snake River Ranch, 5700 Snake River Ranch Rd., Wilson, 04001089

A request for Removal has been made on the following resources:

CALIFORNIA

Los Angeles County

Souther Pacific Railroad Station, 11825 Bailey St., Whittier 78000701

MINNESOTA

Morrison County

Clough Township Hall, CR 206, Randall Vicinity, 85001985

[FR Doc. 04-20816 Filed 9-15-04; 8:45 am]

BILLING CODE 4312-51-P